SMALL BUSINESS ADMINISTRATION

Reporting and Recordkeeping Requirements Under OMB Review

AGENCY: Small Business Administration.

ACTION: 30-Day notice.

SUMMARY: The Small Business Administration (SBA) is seeking approval from the Office of Management and Budget (OMB) for the information collection described below. In accordance with the Paperwork Reduction Act and OMB procedures, SBA is publishing this notice to allow all interested members of the public an additional 30 days to provide comments on the proposed collection of information.

DATES: Submit comments on or before March 20, 2026.

ADDRESSES: Written comments and recommendations for this information collection request should be sent within 30 days of publication of this notice to www.reginfo.gov/public/do/PRAMain. Find this particular information collection request by selecting “Small Business Administration”; “Currently Under Review,” then select the “Only Show ICR for Public Comment” checkbox. This information collection can be identified by title and/or OMB Control Number.

FOR FURTHER INFORMATION CONTACT: You may obtain a copy of the information collection and supporting documents from the Agency Clearance Office at Shauniece.Carter@sba.gov; or from www.reginfo.gov/public/do/PRAMain.

SUPPLEMENTARY INFORMATION: This is a new collection for the U.S. Small Business Administration's (SBA) Regional Innovation Cluster (RIC) Program. This data collection is an excel-based form to be completed by the administrators of SBA-funded RICs. The form enables SBA to track cluster membership, small businesses served, types of small business assistance, and small business outcomes.

Through the RIC Program, the SBA invests regional clusters—geographic concentrations of interconnected companies, specialized suppliers, academic institutions, service providers, and associated organizations with a specific industry focus—throughout the United States that span a variety of industries, ranging from energy and manufacturing to advanced defense technologies. The standardized metrics collection enables SBA to rigorously track amount and type of small business support across individual RICs and review programmatic outcomes.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

PRA Number: New Data collection.

(1) Title: Regional Innovation Cluster Quarterly and Annual Reporting.

Description of Respondents: Regional Innovation Cluster administrators (contractors).

Total Estimated Annual Responses: 80.

Total Estimated Annual Hour Burden: 400.

Shauniece Carter,
Agency Clearance Officer.

[FR Doc. 2026-03078 Filed 2-13-26; 8:45 am]

BILLING CODE 8026-09-P